EQUAL EMPLOYMENT OPPORTUNITY COMMISSION

29 CFR Part 1612

Government in the Sunshine Act Regulations

AGENCY: Equal Employment Opportunity Commission.

ACTION: Final rule.

SUMMARY: The Equal Employment Opportunity Commission is revising the method of public announcement of agency meetings subject to the Government in the Sunshine Act.

DATES: Effective Date: September 21, 2009.

FOR FURTHER INFORMATION CONTACT: Thomas J. Schlageter, Assistant Legal Counsel, or Kathleen Oram, Senior Attorney, at (202) 663-4640 (voice) or (202) 663-7026 (TTY). Copies of this final rule are also available in the following alternate formats: large print, braille, audiotape and electronic file on computer disk. Requests for this final rule in an alternative format should be made to EEOC's Publication Center at 1-800-669-3362 (voice) or 1-800-800-3302 (TTY).

SUPPLEMENTARY INFORMATION: Under the Government in the Sunshine Act, 5 U.S.C. 552b, the EEOC is required to give public announcement of Commission meetings. The Commission's Sunshine Act regulations specify that such announcements will be made by recorded telephone message and posting in the lobby of its headquarters. In November and December 2008, the Commission's headquarters moved from 1801 L Street, NW., Washington, DC 20507 to 131 M Street, NE., Washington, DC 20507. Because the new location is a multi-tenant building and the landlord prohibits the posting of tenant announcements in the lobby, the Commission proposed in an NPRM published at 74 FR 7843 (Feb. 20, 2009) to post announcements of public meetings on the agency's public Web site instead of posting them in the lobby. The Commission received one comment on its proposal, suggesting that EEOC create a mechanism for the public to sign up to receive e-mail and text message notice by subscription. While the Sunshine Act does not require public notice by e-mail or text message or similar individualized notice, the Commission agrees that such notice would be optimal for its stakeholders, and will consider adopting such a system in the future. For now, the final rule provides for public announcement of Commission meetings by recorded telephone message and posting on the EEOC's Web site instead of by recorded telephone message and posting in the EEOC's lobby.

Regulatory Procedures

Executive Order 12866

This is not a “significant regulatory action” within the meaning of section 3 of Executive Order 12866.

Paperwork Reduction Act

This regulation contains no new information collection requirements subject to review by the Office of Management and Budget under the Paperwork Reduction Act (44 U.S.C. chapter 35).

Regulatory Flexibility Act

The Commission certifies under 5 U.S.C. 605(b) that this rule will not have a significant economic impact on a substantial number of small entities because the rule does not have any economic impact. The regulation affects only the means by which the EEOC will issue public notices of its meetings. Thus, a regulatory flexibility analysis is not required.

Unfunded Mandates Reform Act of 1995

This final rule will not result in the expenditure by State, local, or tribal governments, in the aggregate, or by the private sector, of $100 million or more in any one year, and it will not significantly or uniquely affect small governments. Therefore, no actions were deemed necessary under the provisions of the Unfunded Mandates Reform Act of 1995.

Congressional Review Act

This action concerns agency organization, procedure or practice that does not substantially affect the rights or obligations of non-agency parties and, accordingly, is not a “rule” as that term is used by the Congressional Review Act (Subtitle E of the Small Business Regulatory Enforcement Fairness Act of 1996 (SBREFA)). Therefore, the reporting requirement of 5 U.S.C. 801 does not apply.

List of Subjects in 29 CFR Part 1612

Government in the Sunshine Act, Equal Employment Opportunity.

For the Commission,
Stuart J. Ishimaru,
Acting Chairman.

Accordingly, the Equal Employment Opportunity Commission amends 29 CFR Part 1612 as follows:

PART 1612—GOVERNMENT IN THE SUNSHINE ACT REGULATIONS

1. The authority citation for Part 1612 continues to read as follows:

Authority: 5 U.S.C. 552b, sec 713, 78 Stat. 265; 42 U.S.C. 2000e-12.

2. In § 1612.7, revise paragraph (a) to read as follows:

§ 1612.7 Public announcement of agency meetings.

(a) Public announcement of each meeting by the agency shall be accomplished by recorded telephone message at telephone number 202-663-7100, and by posting such announcements on the Commission's public Web site located at http://www.eeoc.gov not later than one week prior to commencement of a meeting or the commencement of the first meeting in a series of meetings, except as otherwise provided in this section, and shall disclose:

(1) The time of the meeting.

(2) The place of the meeting.

(3) The subject matter of each portion of the meeting or series of meetings.

(4) Whether any portion(s) of a meeting will be open or closed to public observation.

(5) The name and telephone number of an official designated to respond to requests for information about the meeting.

* * * * *

[FR Doc. E9-20010 Filed 8-19-09; 8:45 am]

BILLING CODE 6570-01-P